DEPARTMENT OF DEFENSE

Department of the Army

Privacy Act of 1974; System of Records

AGENCY: Department of the Army, DoD.

ACTION: Notice to amend systems of records.

SUMMARY: The Department of the Army is proposing to amend three systems of records notices in its existing inventory of records systems subject to the Privacy Act of 1974, (5 U.S.C. 552a), as amended.

The first amendment consists of changing only the system identifier of ‘A0001a US AHRC’ to ‘A0001a AHRC’. The notice was last published on November 18, 2003, at 68 FR 65045.

The second amendment corrects an administrative error published on January 6, 2004, at 69 FR 811. The system identifier for ‘A0601-210 TAPC’ was changed to ‘A0601-210 AHRC’. However, the rest of the entry was incorrect. The correct notice is published below.

DATES: This proposed action will be effective without further notice on March 24, 2004, unless comments are received which result in a contrary determination.

ADDRESSES: Department of the Army, Freedom of Information/Privacy Act Office, U.S. Army Records Management and Declassification Agency, ATTN: AHRC-PDD-FP, 7798 Cissna Road, Suite 205, Springfield, VA 22153-3166.

FOR FURTHER INFORMATION CONTACT: Ms. Janice Thornton at (703) 806-7137/DSN 656-7137.

SUPPLEMENTARY INFORMATION: The first amendment consists of changing only the system identifier of ‘A0001a US AHRC’ to ‘A0001a AHRC’. The notice was last published on November 18, 2003, at 68 FR 65045.

The second amendment corrects an administrative error published on January 6, 2004, at 69 FR 811. The system identifier for ‘A0601-210 TAPC’ was changed to ‘A0601-210 AHRC’. However, the rest of the entry was incorrect. The correct notice is published below.

The Department of the Army systems of records notices subject to the Privacy Act of 1974, (5 U.S.C. 55a), as amended, have been published in the Federal Register and are available from the address above.

The specific changes to the records system being amended are set forth below followed by the notice, as amended, published in its entirety. The proposed amendments are not within the purview of subsection (r) of the Privacy Act of 1974, (5 U.S.C. 552a), as amended, which requires the submission of a new or altered system report.

Dated: February 13, 2004.
L.M. Bynum,
Alternate OSD Federal Register Liaison Officer, Department of Defense.

A0001a US AHRC

System name:

Office Visitor/Commercial Solicitor Files (November 18, 2003, 68 FR 65045).

Change:

System Identifier:

Replace entry with ‘A0001a AHRC’.

A0001a AHRC

System Name:

Office Visitor/Commercial Solicitor Files.

System Location:

Segments may be maintained at Headquarters, Department of the Army, staff, field operating agencies, commands, installations, and activities. Official mailing addresses are published as an appendix to the Army's compilation of systems of records notices.

Categories of Individuals Covered by the System:

Visitors to Army installations/activities and/or commercial solicitors who represent an individual, firm, corporation, academic institution, or other enterprise involved in official or business transactions with the Department of the Army and/or its elements.

Categories of Records in the System:

Individual's name, Social Security Number, name and address of firm represented, person/office visited, purpose of visit, status of individual as regards past or present affiliation with the Department of Defense, and the results of a law enforcement records check.

Authority for Maintenance of the System:

10 U.S.C. 3013, Secretary of the Army, Army Regulation 210, Commercial Solicitation on Army Installations; and E.O. 9397 (SSN).

Purpose(s):

To provide information to officials of the Army responsible for monitoring/controlling visitor's/solicitor's status and determining purpose of visit so as to preclude conflict of interest.

Routine Uses of Records Maintained in the System, Including Categories of Users and the Purposes of such Uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the Army's compilation of systems of records notices also apply to this system.

Policies and Practices for Storing, Retrieving, Accessing, Retaining, and Disposing of Records in the System:

Storage:

Paper records in file folders.

Retrievability:

By name of visitor/solicitor.

Safeguards:

Records are maintained in file cabinets with access limited to officials having need therefore.

Retention and disposal:

Retained for one year after which records are destroyed.

System manager(s) and Address:

Commander, United States Army Human Resources Command, 200 Stovall Street, Alexandria, VA 22332-0400.

Notification Procedure:

Individuals seeking to determine if information about themselves is contained in this record system should address written inquires to the commander/supervisor maintaining the information. Official mailing addresses are published as an appendix to the Army's compilation of systems of records notices.

Individual should provide the full name and other information verifiable from the record itself.

Record access Procedures:

Individuals seeking access to records about themselves contained in this record system should address written inquiries to the commander/supervisor maintaining the information. Official mailing addresses are published as an appendix to the Army's compilation of systems of records notices.

Individual should provide the full name and other information verifiable from the record itself.

Contesting Record Procedures:

The Army's rules for accessing records, and for contesting contents and appealing initial agency determinations are contained in Army Regulation 340-21; 32 CFR part 505; or may be obtained from the system manager.

Record Source Categories:

From the individual.

Exemptions Claimed for the System:

None.

A0601-210 AHRC

System Name:

Army Recruiting Prospect System (January 6, 2004, 69 FR 811).

Changes:

Delete everything after the System identifier, and replace with the notice below.

* * * * *

A0601-210 AHRC

System Name:

Eligibility Determination Files.

System Location:

U.S. Army Human Resources Command, Non-Commissioned Officer In Charge of Eligibility Inquiries Section, 2461 Eisenhower Avenue, Alexandria, VA 22331-0450.

Categories of Individuals Covered by the System:

Applicants for enlistment who require a waiver for an adult felony; soldiers requesting continuation on active duty who require waiver for certain disqualifications.

Categories of Records in the System:

File contains requests for enlistment eligibility or waiver of disqualifications for enlistment/reenlistment, requests for grade determination, documents reflecting determinations made thereon, copies or extracted items from basic records, transmittals, and suspense documents needed to assure that requests are acted upon in a timely manner.

Authority for Maintenance of the System:

10 U.S.C. 504, Persons not Qualified; 10 U.S.C. 3013, Secretary of the Army; Army Regulation 601-210, Regular Army and Army Reserve Enlisted Program; Army Regulation 635-200, Enlisted Personnel; Army Regulation 601-280, Army Retention Program and E.O. 9397 (SSN).

Purpose(s):

To evaluate waiver requests, determine appropriate action and render decision.

Routine Uses of Records Maintained in the System, Including Categories of Users and the Purposes of Such Uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the Army's compilation of systems of records notices also apply to this system.

Policies and Practices for Storing, Retrieving, Accessing, Retaining, and Disposing of Records in the System:

Storage:

Paper records in file folders and on electronic storage media.

Retrievability:

By Social Security Number and surname.

Safeguards:

Records are maintained in areas accessible only to properly cleared, trained, and authorized personnel. Records are in a secure office in a secure building.

Retention and Disposal:

Enlisted eligibility records are destroyed upon reenlistment of individual. Inquiry records and other related documents are maintained for 7 years then destroyed.

System Manager(s) and Address:

Commander, U.S. Army Human Resources Command, 2461 Eisenhower Avenue, Alexandria, VA 22332-0400.

Notification Procedure:

Individuals seeking to determine if information about themselves is contained in this records system should address written inquiries to the U.S. Army Human Resources Command, Eligibility Inquiries Section, Retention Management Division, Enlistment Personnel Management Directorate, 2461 Eisenhower Avenue, Alexandria, VA 22331-0451.

Individual should provide the full name, Social Security Number, date of separation and service component, if applicable, current address and telelphone number, and signature.

Record Access Procedures:

Individuals seeking access to records about themselves contained in this record system should address written inquiries to the U.S. Army Human Resources Command, Eligibility Inquiries Section, Retention Management Division, Enlistment Personnel Management Directorate, 2461 Eisenhower Avenue, Alexandria, VA 22331-0451.

Individual should provide the full name, Social Security Number, date of separation and service component, if applicable, current address and telephone number, and signature.

Contesting Record Procedures:

The Army's rule for accessing records, and for contesting contents and appealing initial agency determinations are contained in Army Regulation 340-21; 32 CFR part 505; or may be obtained from the system manager.

Record Source Categories:

From the individual, official military personnel records; investigative/security dossiers; medical evaluations; Army records and reports.

Exemptions Claimed for the System:

None.

[FR Doc. 04-3769 Filed 2-20-04; 8:45 am]

BILLING CODE 5001-06-M